SMALL BUSINESS ADMINISTRATION

[Disaster Declaration #21040 and #21041; VIRGINIA Disaster Number VA-20019]

Presidential Declaration Amendment of a Major Disaster for Public Assistance Only for the Commonwealth of Virginia

AGENCY: U.S. Small Business Administration.

ACTION: Amendment 1.

SUMMARY: This is an amendment of the Presidential declaration of a major disaster for Public Assistance Only for the Commonwealth of Virginia (FEMA-4863-DR), dated April 4, 2025.

Incident: Severe Winter Storms and Flooding.

DATES: Issued on April 28, 2025.

Incident Period: February 10, 2025 through February 18, 2025.

Physical Loan Application Deadline Date: June 3, 2025.

Economic Injury (EIDL) Loan Application Deadline Date: January 5, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Virginia, dated April 4, 2025, is hereby amended to include the following areas as adversely affected by the disaster.

Primary Counties: Amelia, Appomattox, Bedford, Botetourt, Buckingham, Campbell, Charlotte, Cumberland, Giles, Halifax, Lunenburg, Montgomery, Nottoway, Page, Pittsylvania, Powhatan, Prince Edward, Rockingham, Wythe.

All other information in the original declaration remains unchanged.

(Catalog of Federal Domestic Assistance Number 59008)

James Stallings,
Associate Administrator, Office of Disaster Recovery & Resilience.

[FR Doc. 2025-07760 Filed 5-2-25; 8:45 am]

BILLING CODE 8026-09-P